Title 3—

The President

Proclamation 7296 of April 21, 2000

Bicentennial of the Library of Congress

By the President of the United States of America

A Proclamation

The Library of Congress is truly America's library. Established on April 24, 1800, as the Congress prepared to transfer the Federal Government from Philadelphia to Washington, D.C., it is our country's oldest Federal cultural institution. With Thomas Jefferson's private library—acquired in 1815—as its core, the Library of Congress has reflected from its earliest days the breadth and variety of Jefferson's interests and his love of democracy, expanding the store of human knowledge, and helping ensure the free flow of ideas.

Two centuries later, the Library's collections remain diverse and expansive, containing materials on virtually every subject, in virtually every medium. The Library houses approximately 120 million items, including more than 18 million books and some of the world's largest collections of maps, manuscripts, photographs, prints, newspapers, sound recordings, motion pictures, and other research materials. The Library also offers wide-ranging services to the Government and the public, serving simultaneously as a legislative library and the major research arm of the United States Congress; the copyright agency of the United States; the world's largest law library; and a major center for preserving research materials and for digitizing documents, manuscripts, maps, motion pictures, and other specialized materials for use on the Internet.

Today, America's library is also the world's library. An international resource of unparalleled reach, the Library of Congress provides services through its 21 reading rooms in 3 buildings on Capitol Hill as well as electronically through its web site, which registers more than 4 million transactions each workday from people around the globe. With its remarkable collections and resources, the Library has truly fulfilled its stated mission to make “available and useful . . . and to sustain and preserve a universal collection of knowledge and creativity for future generations.”

Libraries have always enabled people, in the words of James Madison, to “arm themselves with the power which knowledge gives.” These words, inscribed at the entrance of the James Madison Memorial Building of the Library of Congress, are a tribute to the Library's past and a sustaining goal as it embarks on its third century.

NOW, THEREFORE, I, WILLIAM J. CLINTON, President of the United States of America, by virtue of the authority vested in me by the Constitution and laws of the United States, do hereby proclaim April 24, 2000, as a time to commemorate the Bicentennial of the Library of Congress. I call upon the people of the United States to observe this occasion with appropriate programs, ceremonies, and activities that celebrate the many contributions the Library of Congress has made to strengthening our democracy and our national culture.

IN WITNESS WHEREOF, I have hereunto set my hand this twenty-first day of April, in the year of our Lord two thousand, and of the Independence of the United States of America the two hundred and twenty-fourth.

wj

[FR Doc. 00-10493

Filed 4-24-00; 11:40 am]

Billing code 3195-01-P